DEPARTMENT OF COMMERCE

Foreign-Trade Zones Board

[Docket 49-2003]

Foreign-Trade Zone 171—Liberty County, TX, Area; Application for Expansion

An application has been submitted to the Foreign-Trade Zones (FTZ) Board (the Board) by the Liberty County Economic Development Corporation, grantee of Foreign-Trade Zone 171, requesting authority to expand FTZ 171, in the Liberty County, Texas, area, adjacent to the Houston Customs port of entry. The application was submitted pursuant to the provisions of the Foreign-Trade Zones Act, as amended (19 U.S.C. 81a-81u), and the regulations of the Board (15 CFR Part 400). It was formally filed on September 24, 2003.

FTZ 171 was approved on January 4, 1991 (Board Order 501, 56 FR 1166, 1/11/91) and was expanded on August 9, 1999 (Board Order 1049, 64 FR 46181, 8/24/99) and April 15, 2002 (Board Order 1225, 67 FR 20087, 4/24/02). The zone project currently consists of the following sites: Site 1 (150 acres)—City of Cleveland's International Industrial Park, on Highway FM 2025, west of U.S. Highway 59; Site 2 (45 acres)—Port of Liberty County Industrial Park, located on the Trinity River; Site 3 (27 acres)—industrial park on the Trinity River, some 2 miles south of U.S. Highway 90, City of Liberty; Site 4 (24 acres)—within the Cleveland Municipal Airport facility, Highway FM 787, Liberty County; Site 5 (583 acres)—Sjolander Plastics Storage Railyard facility, adjacent to Highway 146, approximately 2 miles south of Dayton (Liberty County); and, Site 6 (200 acres, 3 parcels)—located between West Bay Road and FM 1405, within the western portion of the 15,000-acre Cedar Crossing Industrial Park in the City of Baytown (Chambers County).

The applicant is now requesting authority to expand the general-purpose zone to include three additional sites (306 acres) in Huntsville (Walker County), Texas: Proposed Site 7 (200 acres)—75 South Industrial Park, adjacent to Highway 75 and Interstate 45, Huntsville; Proposed Site 8 (103 acres)—75 North Industrial Park, adjacent to Highway 75 and Interstate 45, Huntsville; and, Proposed Site 9 (3 acres)—M&M Designs Industrial Park, 1981 Quality Boulevard, Huntsville. All three sites are located within a State-sponsored Enterprise Zone. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099—14th Street, NW., Washington, DC 20005; or

2. Submissions via the U.S. Postal Service: Foreign-Trade Zones Board, U.S. Department of Commerce, FCB—Suite 4100W, 1401 Constitution Avenue, NW., Washington, DC 20230.

The closing period for their receipt is December 2, 2003. Rebuttal comments in response to material submitted during the foregoing period may be submitted during the subsequent 15-day period (to December 17, 2003).

A copy of the application and accompanying exhibits will be available for public inspection at the Office of the Foreign-Trade Zones Board's Executive Secretary at the first address listed above, and at the U.S. Department of Commerce Export Assistance Center, 15600 John F. Kennedy Boulevard, Suite 530, Houston, Texas 77032.

Dated: September 24, 2003.
Dennis Puccinelli,
Executive Secretary.

[FR Doc. 03-25164 Filed 10-2-03; 8:45 am]

BILLING CODE 3510-DS-P